DEPARTMENT OF COMMERCE

National Oceanic and Atmospheric Administration

[RTID 0648-XB716]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 177th public meeting to address the items contained in the tentative agenda included in the SUPPLEMENTARY INFORMATION. The meeting will be an in-person/virtual hybrid meeting.

DATES: The 177th CFMC public meeting will be held on February 9, 2022, from 9 a.m. to 4:15 p.m. AST.

ADDRESSES: The meeting will be held at the Courtyard by Marriott Isla Verde Beach Resort, 7012 Boca de Cangrejos Avenue, Carolina, Puerto Rico 00979. See SUPPLEMENTARY INFORMATION for joining the meeting virtually.

FOR FURTHER INFORMATION CONTACT: Miguel A. Rolón, Executive Director, Caribbean Fishery Management Council, 270 Muñoz Rivera Avenue, Suite 401, San Juan, Puerto Rico 00918-1903; telephone: (787) 398-3717.

SUPPLEMENTARY INFORMATION: You may join the 177th CFMC public meeting (virtual) via Zoom, from a computer, tablet or smartphone by entering the following address:

Join Zoom Meeting: https://us02web.zoom.us/j/83060685915?pwd=VmVsc1orSUtKck8xYk1XOXNDY1ErZz09.

Meeting ID: 830 6068 5915.

Passcode: 995658.

One tap mobile:

+17879451488,,83060685915#,,,,,,0#,, 995658# Puerto Rico

+17879667727,,83060685915#,,,,,,0#,, 995658# Puerto Rico

Dial by your location:

+1 787 945 1488 Puerto Rico

+1 787 966 7727 Puerto Rico

+1 939 945 0244 Puerto Rico

Meeting ID: 830 6068 5915.

Passcode: 995658.

In case there are problems and we cannot reconnect via Zoom, the meeting will continue using GoToMeeting.

You can join the meeting from your computer, tablet or smartphone. https://global.gotomeeting.com/join/971749317. You can also dial in using your phone: United States: +1 (408) 650-3123 Access Code: 971-749-317.

The following items included in the tentative agenda will be discussed:

9 a.m.-9:30 a.m.

—Welcome—Marcos Hanke, CFMC Chair

—Roll call

—Executive Director's Report

Panel I—Marine Protected Areas (MPAs): Legal, Scientific and Educational Aspects—Graciela García-Moliner, Chair

9:30 a.m.-9:45 a.m.

—Legal Aspects of Federal MPAs in Magnuson Stevens Act—Jocelyn D'Ambrosio, NOAA Office of General Counsel

9:45 a.m.-10 a.m.

—Inventory of U.S. Caribbean MPAs Diana Beltrán, URI

10 a.m.-10:15 a.m.

—Past, Present and Future Studies on MPAs in the U.S. Caribbean—SEFSC

10:15 a.m.-10:30 a.m.

—CFMC's MPAs and Connectivity—Graciela García-Moliner and Miguel Canals, UPRM

10:30 a.m.-10:45 a.m.

—Area-Based Management of Blue Water Fisheries: Current Knowledge and Research Needs—Mark Fitchett, Western Pacific Fishery Management Council

10:45 a.m.-11 a.m.

—Outreach and Education on MPAs—Alida Ortíz, CFMC Outreach and Education Advisory Panel Chair

11 a.m.-12 p.m.

—Discussion and Recommendations

12 p.m.-1 p.m.

—Lunch Break

Panel II—Marine Protected Areas: Governance and Industry Perspectives—Julian Magras, Chair

1 p.m.-1:45 p.m.

—Inventory of State MPAs:

—St. Croix, USVI—Mavel Maldonado, CFMC St. Croix Liaison

—St. Thomas, USVI—Nikole Greaux, CFMC St. Thomas/St. John Liaison

—Puerto Rico—Wilson Santiago, CFMC Puerto Rico Liaison

1:45 p.m.-2:30 p.m.

—Fishery Industry Perspectives:

—Julian Magras—District Advisory Panel (DAP) Chair, St. Thomas/St. John, USVI

—Edward Schuster—DAP Chair St. Croix, USVI

—Nelson Crespo—DAP Chair Puerto Rico

2:30 p.m.-3:15 p.m.

—Governance: Mechanisms for Implementing and Monitoring MPAs

—Puerto Rico—Damaris Delgado or Designee, Puerto Rico Department of Natural and Environmental Resources

—USVI—Nicole Angeli, or Designee, USVI Division of Fish and Wildlife

—Federal Government—María López-Mercer, NOAA Fisheries, Southeast Regional Office

3:15 p.m.-4:15 p.m.

—Discussion and Recommendations

4:15 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on February 9, 2022, at 9 a.m. AST, and will end on February 9, 2022 at 4:15 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: U.S.C. 1801 et seq.

Dated: January 7, 2022.
Tracey L. Thompson,
Acting Deputy Director, Office of Sustainable Fisheries, National Marine Fisheries Service.

[FR Doc. 2022-00425 Filed 1-11-22; 8:45 am]

BILLING CODE 3510-22-P